DEPARTMENT OF THE INTERIOR

Bureau of Indian Affairs

[256A2100DD/AAKP300000/A0A501010.000000; OMB Control Number 1076-0114]

Agency Information Collection Activities; Submission to the Office of Management and Budget for Review and Approval; Application for Admission to Haskell Indian Nations University and to Southwestern Indian Polytechnic Institute

AGENCY: Bureau of Indian Affairs, Interior.

ACTION: Notice of information collection; request for comment.

SUMMARY: In accordance with the Paperwork Reduction Act of 1995, we, the Bureau of Indian Education (BIE), are proposing to renew an information collection with revisions.

DATES: Interested persons are invited to submit comments on or before March 31, 2025.

ADDRESSES: Written comments and recommendations for the proposed information collection request (ICR) should be sent within 30 days of publication of this notice to the Office of Information and Regulatory Affairs (OIRA) through https://www.reginfo.gov/public/do/PRA/icrPublicCommentRequest?ref_nbr=202405-1076-016 or by visiting https://www.reginfo.gov/public/do/PRAMain and selecting “Currently under Review—Open for Public Comments” and then scrolling down to the “Department of the Interior.”

FOR FURTHER INFORMATION CONTACT: Steven Mullen, Information Collection Clearance Officer, Office of Regulatory Affairs and Collaborative Action—Indian Affairs, U.S. Department of the Interior, 1001 Indian School Road NW, Suite 229, Albuquerque, New Mexico 87104; comments@bia.gov; (202) 924-2650. Individuals in the United States who are deaf, deafblind, hard of hearing, or have a speech disability may dial 711 (TTY, TDD, or TeleBraille) to access telecommunications relay services. You may also view the ICR at https://www.reginfo.gov/public/do/PRAOMBHistory?ombControlNumber=1076-0114.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 21, 2024 (89 FR 52076). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BIE is requesting approval for the admission forms for Haskell Indian Nations University (Haskell) and Southwest Indian Polytechnic Institute (SIPI). These admission forms are used in determining program eligibility of American Indian and Alaska Native students for educational services. These forms are utilized pursuant to the Blood Quantum Act, Public Law 99-228; the Snyder Act, Chapter 115, Public Law 67-85; and the Indian Appropriations of the 48th Congress, Chapter 180, page 91, For Support of Schools, July 4, 1884. Submission of these eligibility application forms is mandatory in determining a student's eligibility for educational services.

Proposed Revisions

We are proposing to revise the information collection to facilitate the digital submission of the student's application.

Title of Collection: Application for Admission to Haskell Indian Nations University and to Southwestern Indian Polytechnic Institute.

OMB Control Number: 1076-0114.

Form Number: None.

Type of Review: Revision of a currently approved collection.

Respondents/Affected Public: Students.

Total Estimated Number of Annual Respondents: 2,100 per year, on average.

Total Estimated Number of Annual Responses: 2,100 per year, on average.

Estimated Completion Time per Response: 15 minutes per Haskell application; 30 minutes per SIPI application.

Total Estimated Number of Annual Burden Hours: 800 hours.

Respondent's Obligation: Required to Obtain a Benefit.

Frequency of Collection: Once per year for Haskell; once for SIPI, unless a student has missed more than two consecutive trimesters.

Total Estimated Annual Nonhour Burden Cost: $0.

Authority

An agency may not conduct or sponsor and a person is not required to respond to a collection of information unless it displays a currently valid OMB control number.

The authority for this action is the Paperwork Reduction Act of 1995 (44 U.S.C. 3501 et seq.).

Bryan Mercier,
Director, Bureau of Indian Affairs Exercising the delegated authority of the Assistant Secretary—Indian Affairs.

[FR Doc. 2025-03297 Filed 2-27-25; 8:45 am]

BILLING CODE 4337-15-P